DEPARTMENT OF ENERGY

Federal Energy Regulatory Commission

[Docket No. EG04-41-000, et al.]

PECO Energy Power Company, et al.; Electric Rate and Corporate Filings

March 24, 2004.

The following filings have been made with the Commission. The filings are listed in ascending order within each docket classification.

1. PECO Energy Power Company

[Docket No. EG04-41-000]

On March 22, 2004, PECO Energy Power Company (PEPCo), 300 Exelon Way, Kennett Square, Pennsylvania 19348, filed with the Federal Energy Regulatory Commission an application for determination of exempt wholesale generator status pursuant to Part 365 of the Commission's Regulations 18 CFR 365 (2003).

PEPCo states that copies of the application have been served upon the Illinois Commerce Commission, the Pennsylvania Public Service Commission, and the Securities and Exchange Commission.

Comment Date: April 12, 2004.

2. Susquehanna Electric Company

[Docket No. EG04-42-000]

On March 22, 2004, Susquehanna Electric Company (Susquehanna Electric), 300 Exelon Way, Kennett Square, Pennsylvania 19348, filed with the Federal Energy Regulatory Commission an application for determination of exempt wholesale generator status pursuant to Part 365 of the Commission's Regulations 18 CFR 365 (2003).

Susquehanna Electric states that copies of the application have been served upon the Illinois Commerce Commission, the Pennsylvania Public Service Commission, and the Securities and Exchange Commission.

Comment Date: April 12, 2004.

3. Susquehanna Power Company

[Docket No. EG04-43-000]

On March 22, 2004, Susquehanna Power Company (Susquehanna Power), 300 Exelon Way, Kennett Square, Pennsylvania 19348, filed with the Federal Energy Regulatory Commission an application for determination of exempt wholesale generator status pursuant to part 365 of the Commission's Regulations 18 CFR 365 (2003).

Susquehanna Power states that copies of the application have been served upon the Illinois Commerce Commission, the Pennsylvania Public Service Commission, and the Securities and Exchange Commission.

Comment Date: April 12, 2004.

Standard Paragraph

Any person desiring to intervene or to protest this filing should file with the Federal Energy Regulatory Commission, 888 First Street NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E4-718 Filed 3-30-04; 8:45 am]

BILLING CODE 6717-01-P